DEPARTMENT OF THE INTERIOR

National Park Service

[NPS-WASO-WM-PSB-NPS0027720; PPWOWMADH2 199 PPMPSAS1Y.YH0000 (199); OMB Control Number 1024-0282]

Agency Information Collection Activities; National Park Service Background Clearance Initiation Request

AGENCY: National Park Service, Interior.

ACTION: Notice of information collection; request for comment.

SUMMARY: In accordance with the Paperwork Reduction Act of 1995, we, the National Park Service (NPS) are proposing to renew an information collection.

DATES: Interested persons are invited to submit comments on or before December 3, 2019.

ADDRESSES: Send your comments on this information collection request (ICR) by mail to Phadrea Ponds, Acting NPS Information Collection Clearance Officer, 1201 Oakridge Drive, Fort Collins, CO 80525; or by email at phadrea_ponds@nps.gov; or by telephone at 970-267-7231. Please reference OMB Control Number 1024-0282 in the subject line of your comments.

FOR FURTHER INFORMATION CONTACT: To request additional information about this ICR by mail contact Shean Rheams, Security Administrator, National Park Service, 1201 Eye Street NW, Washington, DC 20005; or by email at shean_rheames@nps.gov; or by telephone at 202-354-1974. Please reference OMB Control Number 1024-0282 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS, as delegated by the U.S. Office of Personnel Management (OPM), is authorized to request information to determine the suitability of applicants for Federal employment and non-Federal personnel proposed to work under contractor and/or agreement who require access to NPS property and/or to receive DOIAccess personal identity verification (PIV) badges. Suitability determinations are authorized under Executive Orders 10450, “Security requirements for Government employment” and 10577, “Amending the Civil Service Rules and authorizing a new appointment system for the competitive service”; sections 3301, 3302, and 9101 of Title 5, U.S.C.; and parts 2, 5, 731, and 736 of Title 5, CFR, and Federal information processing standards. Section 1104 of Title 5 allows OPM to delegate personnel management functions to other Federal agencies, extending these capabilities to the NPS.

To conform with regulations mandated by the OPM and the Department of the Interior (DOI), NPS requires all applicants for Federal employment and non-Federal personnel requiring access to NPS property and/or receive a DOIAccess PIV badge to be processed for a suitability background investigation, in accordance with Executive Order 10450 and the Homeland Security Presidential Directive (HSPD-12). To collect information pursuant to this requirement, the NPS Personnel Security Branch uses the Electronic Questionnaires for Investigations Processing (E-QIP) System. As part of this process, electronic submission of the Standard Form 85, for suitability background investigations (NACI), or the Standard Form 85P, for Public Trust, is now required. The information collected is protected in accordance with the Privacy Act, and maintained in a secure system of records (Interior-DOI-45, “Personnel Security Files—Interior”, 47 FR 11036).

The NPS uses Form 10-152, “Background Clearance Initiation Request” to create E-QIP accounts necessary to initiate background investigations for all individuals requiring access to NPS property and/or to receive a DOIAccess PIV badge. The OPM and DOI programs initiating background investigations have published System of Records Notices in the Federal Register describing the systems in which the records will be maintained.

The information collected by NPS Form 10-152 includes detailed information for each proposed candidate requiring a background clearance, to include:

• Full legal name;

• Social Security Number;

• Date and place of birth;

• Country of citizenship;

• Contact phone number;

• Email address;

• Home address;

• Whether proposed candidate has ever been investigated by another Federal agency; and

• If the candidate was investigated by another Federal agency, they must provide the name of that agency and the date of the investigation.

Additional information required on Form 10-152 for non-Federal personnel includes:

• Name of proposed candidate's company;

• Contract/agreement number; and

• Contract/agreement periods of performance.

Title of Collection: National Park Service Background Clearance Initiation Request.

OMB Control Number: 1024-0282.

Form Number: NPS 10-152, “Background Clearance Initiation Request”.

Type of Review: Extension of a currently approved collection.

Description of Respondents: Candidates for Federal employment, as well as contractors, partners, and other non-Federal candidates proposed to work for the NPS under a Federal contract or agreement who require access to NPS property and/or a DOIAccess PIV badge.

Total Estimated Number of Annual Respondents: 6,500.

Total Estimated Number of Annual Responses: 6,500.

Estimated Completion Time per Response: 7 minutes.

Total Estimated Number of Annual Burden Hours: 758.

Respondent's Obligation: Mandatory.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-21683 Filed 10-3-19; 8:45 am]

BILLING CODE 4312-52-P